COMMISSION ON CIVIL RIGHTS

Sunshine Act Notice

AGENCY: United States Commission on Civil Rights.

ACTION: Notice of meeting.

DATE AND TIME: Friday, December 4, 2009; 9:30 a.m. EST.

PLACE: 624 9th St., NW., Room 540, Washington, DC 20425.

Meeting Agenda

This meeting is open to the public.

I. Approval of Agenda.

II. Program Planning.

• Update on Status of 2010 Enforcement Report.

• Update on Status of Title IX Project.

• Approval of Briefing Report on Covert Wiretapping in the War on Terror.

• Approval of MEPA Briefing Report.

III. Management & Operations.

• Update Regarding Special Assistant GS Level.

IV. Approval of September 24, October 8, October 15, October 30, and November 20 Meeting Minutes.

V. Staff Director's Report.

VI. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: November 23, 2009.
David Blackwood,
General Counsel.

[FR Doc. E9-28423 Filed 11-23-09; 4:15 pm]

BILLING CODE 6335-01-P